DEPARTMENT OF ENERGY

Federal Energy Regulatory Commission

[Docket No. RP04-229-000]

Natural Gas Pipeline Company of America; Notice of Tariff Filing

March 30, 2004.

Take notice that on March 26, 2004, Natural Gas Pipeline Company of America (Natural) tendered for filing to become part of its FERC Gas Tariff, Sixth Revised Volume No. 1, the following tariff sheets, to be effective May 1, 2004:

First Revised Sheet No. 280A;

First Revised Sheet No. 280B; and

First Revised Sheet No. 280C.

Natural states that the purpose of this filing is to revise the General Terms and Conditions in Natural's Tariff relating to shipper creditworthiness. Specifically, the proposed changes would allow Natural to obtain security from noncreditworthy customers on gas loaned under any park and loan service.

Natural states that copies of the filing are being mailed to its customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-756 Filed 4-5-04; 8:45 am]

BILLING CODE 6717-01-P